DEPARTMENT OF THE INTERIOR

Bureau of Indian Affairs

Renewal of Agency Information Collection for Verification of Indian Preference for Employment With BIA and IHS; Request for Comments

AGENCY: Bureau of Indian Affairs, Interior.

ACTION: Notice of submission to the Office of Management and Budget.

SUMMARY: In compliance with the Paperwork Reduction Act of 1995, the Bureau of Indian Affairs (BIA) is submitting to the Office of Management and Budget (OMB) a request for renewal of the information collection for Verification of Indian Preference for Employment. The information collection is currently authorized by OMB Control Number 1076-0160, which expires August 31, 2011.

DATES: Interested persons are invited to submit comments on or before September 30, 2011.

ADDRESSES: You may submit comments on the information collection to the Desk Officer for the Department of the Interior at the Office of Management and Budget, by facsimile to (202) 395-5806 or you may send an e-mail to: OIRA_DOCKET@ omb.eop.gov. Please send a copy of your comments to Matt Crain, Acting Deputy Director—Office of Indian Services, Bureau of Indian Affairs, 1849 C Street, NW., MS 4513, Washington, DC 20240; e-mail: matt.crain@bia.gov.

FOR FURTHER INFORMATION CONTACT: De Springer (402) 878-2502. To see a copy of the entire collection submitted to OMB, go to http://www.reginfo.gov (select Information Collection Review, Currently Under Review).

SUPPLEMENTARY INFORMATION:

I. Abstract

The BIA is seeking renewal of the approval for the information collection conducted under the 25 U.S.C. 43, 36 Stat. 472, inter alia, and implementing regulations, at 25 CFR part 5, regarding verification of Indian preference for employment. The purpose of Indian preference is to encourage qualified Indian persons to seek employment with the BIA and Indian Health Service (IHS) by offering preferential treatment to qualified candidates of Indian heritage. BIA collects the information to ensure compliance with Indian preference hiring requirements. The information collection relates only to individuals applying for employment with the BIA and the IHS. The tribe's involvement is limited to verifying membership information submitted by the applicant. The collection of information allows certain persons who are of Indian descent to receive preference when appointments are made to vacancies in positions with the BIA and IHS as well as in any unit that has been transferred intact from the BIA to a Bureau or office within the Department of the Interior or the Department of Health and Human Services and that continues to perform functions formerly performed as part of the BIA and IHS. You are eligible for preference if (a) You are a member of a federally recognized Indian tribe; (b) you are a descendant of a member and you were residing within the present boundaries of any Indian reservation on June 1, 1934; (c) you are an Alaska native; or (d) you possess one-half degree Indian blood derived from tribes that are indigenous to the United States.

II. Request for Comments

BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires August 31, 2011.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0160.

Title: Verification of Indian preference for Employment in the BIA and IHS, 25 CFR part 5.

Brief Description of Collection: Submission of this information by Indian applicants for jobs with BIA and IHS allows the Personnel Offices of BIA and IHS to verify that the individual meets the requirements for Indian preference in hiring. Response is required to obtain the benefit of preferential hiring.

Type of Review: Extension without change of a currently approved collection.

Respondents: Qualified Indian persons who are seeking preference in employment with the BIA and IHS.

Number of Respondents: Approximately 5,000.

Total Number of Responses: Approximately 5,000 per year.

Frequency of Response: On occasion.

Estimated Time per Response: One-half hour.

Estimated Total Annual Burden: 2,500 hours, on average.

Estimated Annual Cost: $6,520 (postage and copying costs).

Dated: August 17, 2011.
Alvin Foster,
Acting Chief Information Officer—Indian Affairs .

[FR Doc. 2011-22304 Filed 8-30-11; 8:45 am]

BILLING CODE 4310-4J-P